OFFICE OF PERSONNEL MANAGEMENT

5 CFR Part 591

RIN 3206-AJ26

Cost-of-Living Allowances (Nonforeign Areas); Hawaii County, Kauai County, Guam (Commissary/Exchange), Maui County, Puerto Rico, and the U.S. Virgin Islands

AGENCY: Office of Personnel Management.

ACTION: Interim rule with request for comments.

SUMMARY: The Office of Personnel Management is publishing an interim regulation to increase the cost-of-living allowance (COLA) rates paid to certain Federal employees in Hawaii, Guam, Puerto Rico, and the U.S. Virgin Islands. This regulation increases the COLA rate for Hawaii County, HI, from 15 percent to 16.5 percent; Kauai County, HI, from 22.5 percent to 23.25 percent; Maui County, HI, from 22.5 percent to 23.75 percent; Guam (Commissary/Exchange) from 20 percent to 22.5 percent; Puerto Rico from 10 percent to 11.5 percent; and the U.S. Virgin Islands from 20 percent to 22.5 percent. All other COLA rates remain unchanged. The new rates are the result of the settlement of Caraballo et al. v. United States, Civil No. 1997/27 (D.V.I.).

DATES: Effective Date: October 1, 2000. Implementation date: First day of the first pay period beginning on or after October 1, 2000. Comment date: Submit comments by December 4, 2000.

ADDRESSES: Send or deliver comments to Donald J. Winstead, Assistant Director for Compensation Administration, Workforce Compensation and Performance Service, Office of Personnel Management, Room 7H31, 1900 E Street NW., Washington, DC 20415-8200; FAX: (202) 606-4264; or email: COLA@opm.gov.

FOR FURTHER INFORMATION CONTACT: Donald L. Paquin, (202) 606-2838; FAX: (202) 606-4264; or email at COLA@opm.gov.

SUPPLEMENTARY INFORMATION: The Office of Personnel Management (OPM) is increasing the cost-of-living allowance (COLA) rates paid to certain Federal employees in Hawaii, Guam, Puerto Rico, and the U.S. Virgin Islands. The table below shows the new allowance rates and the places where they apply. The COLA rates in all other allowance areas remain the same.

Allowance area | Old COLA rate¹ | New COLA rate¹
Hawaii County | 15.00 | 16.50
Kauai County | 22.50 | 23.25
Maui County | 22.50 | 23.75
Guam (Commissary/ Exchange) | 20.00 | 22.50
Puerto Rico | 10.00 | 11.50
U.S. Virgin Islands | 20.00 | 22.50
¹ In percent.

OPM is making these changes pursuant to section 9 and Exhibit C of the stipulation for settlement of Caraballo et al. v. United States, Civil No. 1997/27 (D.V.I.). The court approved the settlement on August 17, 2000. The settlement prescribes the new COLA rates and requires that they be made effective on the first day of the first applicable pay period beginning on or after October 1, 2000. OPM is using an interim rule to implement these increases so that agencies can apply the new rates in a timely fashion.

Rulemaking waivers

Under 5 U.S.C. 553(b)(3)(B) and (d)(3), OPM finds that good cause exists to waive the publication of proposed rulemaking and the 30-day delay in the effective date of this regulation. Consistent with the terms of the court-approved settlement agreement, we believe it is in the public interest to implement the interim COLA rate increases immediately. In the future, as we have done in the past, we plan to announce COLA rate adjustments in a proposed rule for public notice and comment.

Regulatory Flexibility Act

I certify that this regulation will not have a significant economic impact on a substantial number of small entities because the regulation will affect only Federal agencies and employees.

Executive Order 12866, Regulatory Review

This rule has been reviewed by the Office of Management and Budget in accordance with Executive Order 12866.

List of Subjects in 5 CFR Part 591

Government employees, Travel and transporation expenses, Wages.

Office of Personnel Management.
Janice R. Lachance,
Director.

Accordingly, the Office of Personnel Management amends 5 CFR part 591 as follows:

PART 591—ALLOWANCES AND DIFFERENTIALS

Subpart B—Cost-of-living Allowance and Post Differential—Nonforeign Areas

1. The authority citation for subpart B of part 591 continues to read as follows:

Authority: 5 U.S.C. 5941; E.O. 10000, 3 CFR, 1943-1948 Comp., p. 792; and E.O. 12510, 3 CFR, 1985 Comp., p. 338.

2. Appendix A of subpart B is amended by revising the table to read as follows:

Appendix A of Subpart B—Places and Rates at Which Allowances Shall Be Paid

* * * * *

Geographic coverage/ allowance category | Authorized allowance rate (percent)
State of Alaska
City of Anchorage and 80-kilometer (50-mile) radius by road:
All employees | 25.00
City of Fairbanks and 80-kilometer (50-mile) radius by road:
All employees | 25.00
City of Juneau and 80-kilometer (50-mile) radius by road:
All employees | 25.00
Rest of the state:
All employees | 25.00
State of Hawaii
City and County of Honolulu:
All employees | 25.00
County of Hawaii:
All employees | 16.50
County of Kauai:
All employees | 23.25
County of Maui and County of Kalawao:
All employees | 23.75
Territory of Guam and Commonwealth of the Northern Mariana Islands
Local Retail | 25.00
Commissary/Exchange | 22.50
Commonwealth of Puerto Rico
All Employees | 11.50
U.S. Virgin Islands
All Employees | 22.50

* * * * *

[FR Doc. 00-25288 Filed 10-2-00; 8:45 am]

BILLING CODE 6325-01-U